DEPARTMENT OF DEFENSE

Corps of Engineers, Department of the Army

Notice of Availability of the “Annual Report to Congress on the Status of the Harbor Maintenance Trust Fund for Fiscal Year 1998”

AGENCY: U.S. Army Corps of Engineers, DoD.

ACTION: Notice of availability.

SUMMARY: This notice is to inform the general public of the availability of the “Annual Report to Congress on the Status of the Harbor Maintenance Trust Fund for Fiscal Year 1998.” A copy of the report may be obtained free of charge by contacting Mr. James D. Hilton. The report is also available on the Corps web site at http://www.wrsc.usace.army.mil/iwr. Click on Products and then click on reports.

FOR FURTHER INFORMATION CONTACT: Mr. James D. Hilton, Operations Division, Office of the Chief of Engineers, at (202) 761-8830, fax (202) 761-1685, or e-mail James.D.Hilton@usace.army.mil.

SUPPLEMENTARY INFORMATION: The Harbor Maintenance Fee was authorized under Sections 1401 and 1402 of the Water Resources Development Act of 1986, Public Law 99-662. This law imposed a 0.04 percent fee on the value of commercial cargo loaded (exports and domestic cargo) or unloaded (imports) at ports which have had Federal expenditures made on their behalf by the U.S. Army Corps of Engineers since 1977. Section 11214 of the Omnibus Budget Reconciliation Act of 1990, Public Law 101-580, increased the Harbor Maintenance Fee to 0.125 percent, which went into effect on January 1, 1991. Harbor Maintenance Trust Fund monies are used to pay up to 100 percent of the Corps eligible Operations and Maintenance expenditures for the maintenance of commercial harbors and channels. Section 201 of the Water Resources Development Act of 1996, Public Law 104-303, expanded the use of Harbor Maintenance Trust Fund monies to pay Federal expenditures for construction of dredged material disposal facilities necessary for the operation and maintenance of any harbor or inland harbor; dredging and disposing of contaminated sediments that are in or that affect the maintenance of Federal navigation channels; mitigating for impacts resulting from Federal navigation operation and maintenance activities; and operating and maintaining dredged material disposal facilities.

Section 330 of the Omnibus Budget Reconciliation Act of 1992, Public Law 102-580, requires that the President provide an Annual Report to Congress on the Status of the Trust Fund. The release of this report is in compliance with this legislation.

Dated: February 8, 2000.
Eric R. Potts,
Colonel, Corps of Engineers, Executive Director for Civil Works.

[FR Doc. 00-3295 Filed 2-11-00; 8:45 am]

BILLING CODE 3710-92-U